DEPARTMENT OF TRANSPORTATION

Federal Aviation Administration

14 CFR Part 39

[Docket No. FAA-2025-0209; Project Identifier MCAI-2024-00636-E; Amendment 39-23073; AD 2025-13-07]

RIN 2120-AA64

Airworthiness Directives; Safran Helicopter Engines, S.A. (Type Certificate Previously Held by Turbomeca, S.A.) Engines

AGENCY: Federal Aviation Administration (FAA), DOT.

ACTION: Final rule.

SUMMARY: The FAA is adopting a new airworthiness directive (AD) for all Safran Helicopter Engines, S.A. (Safran) Model ARRIUS 2B2 engines. This AD was prompted by a manufacturer review of collected data from in-service engines that indicated the preference injector may clog over time caused by fuel coking, which decreases the permeability of the preference injector. This AD requires initial and repetitive non-extinguishing tests for engine flameout and replacement of the preference injector if necessary, a one-time modification (software upgrade) of the electronic engine control unit (EECU) and, for certain engines, repetitive replacements of the preference injector. The FAA is issuing this AD to address the unsafe condition on these products.

DATES: This AD is effective August 6, 2025.

The Director of the Federal Register approved the incorporation by reference of a certain publication listed in this AD as of August 6, 2025.

ADDRESSES:

AD Docket: You may examine the AD docket at regulations.gov under Docket No. FAA-2025-0209; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu. You may find this material on the EASA website at ad.easa.europa.eu.

• You may view this material at the FAA, Operational Safety Branch, 1200 District Avenue, Burlington, MA 01803. For information on the availability of this material at the FAA, call (817) 222-5110. It is also available at regulations.gov under Docket No. FAA-2025-0209.

FOR FURTHER INFORMATION CONTACT: David Bergeron, Aviation Safety Engineer, FAA, 1600 Stewart Avenue, Suite 410, Westbury, NY 11590; phone: (860) 386-1805; email: david.j.bergeron@faa.gov.

SUPPLEMENTARY INFORMATION:

Background

The FAA issued a notice of proposed rulemaking (NPRM) to amend 14 CFR part 39 by adding an AD that would apply to all Safran Helicopter Engines, S.A. (Safran) Model ARRIUS 2B2 engines. The NPRM was published in the Federal Register on February 25, 2025 (90 FR 10617). The NPRM was prompted by EASA AD 2024-0195R1, dated October 22, 2024 (EASA AD 2024-0195R1) (also referred to as the MCAI), issued by EASA, which is the Technical Agent for the Member States of the European Union, which revised EASA AD 2024-0195, dated October 18, 2024 (EASA AD 2024-0195). EASA AD 2024-0195 states that a manufacturer review of collected data from in-service engines indicated that the preference injector may clog over time caused by fuel coking, which could decrease the permeability of the preference injector. EASA AD 2024-0195 also specifies non-extinguishing tests and replacements of the preference injector at reduced intervals, and upgrade of the EECU software based on two manufacturer design changes which, in combination, reduce the clogging rate, but do not mitigate the potential of the unsafe condition. The manufacturer also issued service material that provided instructions for a non-extinguishing test and replacement of the preference injector at shorter intervals than specified in the Engine Maintenance Manual. The manufacturer then developed an EECU software upgrade (modification TU 173) for certain engines installed on certain helicopters, which allows automatic accomplishment of the non-extinguishing test, and published service material providing instructions to embody the software upgrade on in-service engines.

EASA AD 2024-0195R1 states that EASA revised EASA AD 2024-0195 and issued EASA AD 2024-0195R1 to retain all actions from EASA AD 2024-0195 and amend the applicable groups, because modification TU 173 is applicable only to engines installed on Airbus Helicopters Deutschland EC135T2, EC135T2+, EC635T2, or EC635T2+ helicopters.

In the NPRM, the FAA proposed to require initial and repetitive non-extinguishing tests for engine flameout and replacement of the preference injector if necessary, a one-time modification (software upgrade) of the EECU and, for certain engines, repetitive replacements of the preference injector.

Clogging of the preference injector, if not detected and corrected, and if combined with a sharp reduction in the fuel flow during the flight after a pilot command, could lead to a flameout in the combustion chamber, which could result in an uncommanded in-flight shutdown of the engine and reduced control of the helicopter. The FAA is issuing this AD to address the unsafe condition on these products.

You may examine the MCAI in the AD docket at regulations.gov under Docket No. FAA-2025-0209.

Discussion of Final Airworthiness Directive

Comments

The FAA received comments from 1 individual commenter. The commenter supported the NPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0195R1, which specifies procedures for initial and repetitive non-extinguishing tests, a one-time modification (software upgrade) of the EECU, and repetitive replacements of the preference injector. This material is reasonably available because the interested parties have access to it through their normal course of business or by the means identified in the ADDRESSES section.

Costs of Compliance

The FAA estimates that this AD affects 186 engines installed on helicopters of U.S. registry.

The FAA estimates the following costs to comply with this AD:

Estimated Costs
Action | Labor cost | Parts cost | Cost per product | Cost on U.S. operators
Initial non-extinguishing test (186 engines) | 1 work-hour × $85 per hour = $85 | $0 | $85 | $15,810
Repetitive non-extinguishing test (54 engines) | 1 work-hour × $85 per hour = $85 | 0 | 85 | 4,590
Injector replacement (186 engines) | 1 work-hour × $85 per hour = $85 | 1,819 | 1,904 | 354,144
EECU software upgrade (132 engines) | 7 work-hours × $85 per hour = $595 | 0 | 595 | 78,540

The FAA estimates the following costs to do any necessary on-condition replacement that would be required based on the results of any required tests. The agency has no way of determining the number of engines that might need this on-condition replacement:

On-Condition Costs
Action | Labor cost | Parts cost | Cost per product
Injector replacement | 1 work-hour x $85 per hour = $85 | $1,819 | $1,904

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-07 Safran Helicopter Engines, S.A. (Type Certificate previously held by Turbomeca, S.A.): Amendment 39-23073; Docket No. FAA-2025-0209; Project Identifier MCAI-2024-00636-E.

(a) Effective Date

This airworthiness directive (AD) is effective August 6, 2025.

(b) Affected ADs

None.

(c) Applicability

This AD applies to Safran Helicopter Engines, S.A. (type certificate previously held by Turbomeca, S.A.) Model ARRIUS 2B2 engines.

(d) Subject

Joint Aircraft System Component (JASC) Code 7300, Engine Fuel and Control.

(e) Unsafe Condition

This AD was prompted by a manufacturer review of collected data from in-service engines that indicated the preference injector may clog over time caused by fuel coking, which could decrease the permeability of the preference injector. The FAA is issuing this AD to detect and correct clogging and decreased permeability of the preference injector due to fuel coking. The unsafe condition, if not addressed, when combined with a sharp reduction in fuel flow, could result in a flameout in the combustion chamber, which could result in an uncommanded in-flight shutdown of the engine and reduced control of the helicopter.

(f) Compliance

Comply with this AD within the compliance times specified, unless already done.

(g) Required Actions

Except as specified in paragraphs (h) and (i) of this AD: Comply with all required actions and compliance times specified in, and in accordance with, European Union Aviation Safety Agency (EASA) AD 2024-0195R1, dated October 22, 2024 (EASA AD 2024-0195R1).

(h) Exceptions to EASA AD 2024-0195R1

(1) Where EASA AD 2024-0195R1 refers to its effective date, this AD requires using the effective date of this AD.

(2) This AD does not adopt the “Remarks” section of EASA AD 2024-0195R1.

(i) No Reporting Requirement

Although the material referenced in EASA AD 2024-0195R1 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact David Bergeron, Aviation Safety Engineer, FAA, 1600 Stewart Avenue, Suite 410, Westbury, NY 11590; phone: (860) 386-1805; email: david.j.bergeron@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2024-0195R1, dated October 22, 2024.

(ii) [Reserved]

(3) For EASA material identified in this AD, contact EASA, Konrad-Adenauer-Ufer 3, 50668 Cologne, Germany; phone: +49 221 8999 000; email: ADs@easa.europa.eu. You may find this material on the EASA website at ad.easa.europa.eu.

(4) You may view this material at the FAA, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on June 18, 2025.
Steven W. Thompson,
Acting Deputy Director, Compliance & Airworthiness Division, Aircraft Certification Service.

[FR Doc. 2025-12332 Filed 7-1-25; 8:45 am]

BILLING CODE 4910-13-P